DEPARTMENT OF DEFENSE

Defense Representative Guam, Commonwealth of the Northern Mariana Islands, Federated States of Micronesia and Republic of Palau; Notice of Intent To Prepare an Environmental Impact Statement/Overseas Environmental Impact Statement for the Mariana Islands Range Complex and To Announce Public Scoping Meetings

AGENCY: Department of Defense Representative Guam, Commonwealth of the Northern Mariana Islands, Federated States of Micronesia and Republic of Palau.

ACTION: Notice.

SUMMARY: Pursuant to Section 102(2)(c) of the National Environmental Policy Act (NEPA) of 1969, as implemented by the Council on Environmental Quality Regulations (40 CFR parts 1500-1508), and Executive Order 12114 (Environmental Effects Abroad of Major Federal Actions), the Department of Defense Representative Guam, Commonwealth of the Northern Mariana Islands, Federated States of Micronesia and Republic of Palau (DoD REP) announces its intent to prepare an Environmental Impact Statement (EIS)/Overseas Environmental Impact Statement (OEIS) to evaluate the potential environmental impacts associated with conducting military readiness activities in the Mariana Islands Range Complex (MIRC). The DoD REP proposes to support current and emerging training operations and research, development, testing, and evaluation (RDT&E) activities in the MIRC by: (1) Maintaining baseline operations at current levels; (2) increasing training operations from current levels as necessary to support Military Service training requirements; (3) increasing and accommodating potential RDT&E operations; and (4) implementing new and enhanced range complex capabilities.

Dates and Addresses: Public scoping meetings will be held on Guam, Saipan, and Tinian to receive oral and/or written comments on environmental concerns that should be addressed in the EIS. The public scoping meetings will be held at the following dates, times, and locations:

1. Monday, June 18, 2007, 5 p.m.-8 p.m., Guam Hilton, 202 Hilton Road, Tumon Bay, Guam.

2. Wednesday, June 20, 2007, 5 p.m.-8 p.m., Hyatt Regency Saipan, Garapan Village (Across from American Memorial Park), Garapan, Saipan, CNMI.

3. Thursday, June 21, 2007, 5 p.m.-8 p.m., Dynasty Hotel, One Broadway, San Jose Village, Tinian, CNMI.

Details of the meetings will be announced in local newspapers. Additional information concerning the scoping meetings will be available on the EIS/OEIS Web page located at: http://www.MarianasRangeComplexEis.com.

FOR FURTHER INFORMATION CONTACT: LT Donnell Evans, U.S. Naval Forces Marianas Public Affairs Officer, ATTN: Code N00PA, PSC 455 Box 152, FPO AP 96540-1000, Building 3190, Sumay Drive, Santa Rita, Guam 96915; phone (671) 339-2115; e-mail at: donnell.evans@guam.navy.mil.

SUPPLEMENTARY INFORMATION: The Commander Naval Forces Marianas (COMNAVMAR) as the Department of Defense Representative Guam, Commonwealth of the Northern Mariana Islands, Federated States of Micronesia and Republic of Palau is the Executive Agent for the Commander United States Pacific Command (USPACOM) on all matters of MIRC management and sustainment. COMNAVMAR coordinates Joint Service planning and use of MIRC ranges and training areas. COMNAVMAR's role is to provide resources, range complex management, and training support to U.S. military forces in the Western Pacific (WESTPAC) Theater.

COMNAVMAR's mission in the MIRC is to support Army, Navy, Marine Corps, Air Force, U.S. Coast Guard, Army Reserves, and Guam National Guard tactical training by maintaining and operating facilities and range infrastructure and by providing services and material. The MIRC consists of multiple ranges and training areas of land, sea space (nearshore and offshore), undersea space, and air space under different controlling authorities in the Territory of Guam, the Commonwealth of the Northern Mariana Islands (CNMI), and surrounding waters.

The mission of USPACOM is to provide interoperable, trained, and combat-ready military forces to support the National Security Strategy of the United States in the WESTPAC Theater. United States military forces from all Services use the MIRC as a training venue to prepare for contingency warfare.

The MIRC is the westernmost military training complex in U.S. territory. The MIRC has range and training area assets in Guam and the Northern Mariana Islands archipelago. Guam is located roughly three quarters the distance from Hawaii to the Philippines, 1,600 miles east of Manila and 1,550 miles southeast of Tokyo. The southern extent of CNMI is located 40 miles north of Guam (Rota Island) and extends 330 miles to the northwest. The CNMI capital, Saipan, is 3,300 miles west of Honolulu and 1,470 miles south-southeast of Tokyo. The location of the MIRC allows for training of U.S. military forces in WESTPAC, without having to return to Hawaii or the continental United States.

The purpose of the Proposed Action is to: Achieve and maintain military readiness using the MIRC to conduct and support current, emerging, and future military training and RDT&E operations on existing DoD lands and ranges and adjacent air and ocean areas; and, upgrade and modernize range complex capabilities to enhance and sustain military training and RDT&E operations and to expand the Services warfare missions.

The Proposed Action stems from the need to: (1) Maintain current levels of military readiness by training in the MIRC; (2) accommodate future increases in operational training tempo on existing ranges and adjacent air and ocean areas in the MIRC and support the rapid deployment of military units and strike groups; (3) achieve and sustain readiness so that the Military Services can quickly surge required combat power in the event of a national crisis or contingency operation consistent with Service training requirements; (4) support the acquisition, testing, training, and fielding of advanced platforms and weapons systems into Service force structure; and, (5) maintain the long-term viability of the MIRC while protecting human health and the environment, enhancing the quality of training, communications, and safety within the range complex.

The EIS/OEIS will consider two action alternatives to accomplish these objectives, in addition to the No-Action Alternative. The No-Action Alternative is the continuation of training operations, RDT&E activities and on-going base operations. This includes all multi-Service training activities and operations on Navy and Non-Navy ranges and training areas including: Andersen Air Force Base (Main Base, Northwest Field, Andersen South, and Tarague Beach); Naval Station Guam and its off-shore areas; Farallon de Medinilla; Tinian; Saipan; and Air Traffic Control Assigned Airspace (ATCAA). Alternative 1 includes the activities described in the No-Action Alternative with the addition of increased training operations as a result of upgrades and modernization of existing ranges and training areas, and of operations on existing ranges that are required to support the relocation of military units to the DoD REP Area of Responsibility (AOR). Alternative 2 would include all the operations described in Alternative 1 with the addition of new operations on existing ranges and training areas and adjacent air and ocean areas with upgraded and modernized capabilities. In addition, Alternative 2 would incorporate the increased operations resulting from increased operational tempo and training event frequency to optimize training throughput in support of current and future contingencies.

Previously, the Navy's Joint Guam Program Office (JGPO) published a Notice of Intent to prepare an EIS/OEIS for the Relocation of U.S. Marine Corps Forces to Guam (Federal Register, 72 FR 10186, March 7, 2007). JGPO's proposed EIS/OEIS will examine potential impact from activities associated with the Marine Corps units' relocation from Okinawa, Japan to Guam, including operations, infrastructure changes and training. Since the proposed MIRC EIS/OEIS will cover all DoD training on existing DoD land and operating areas in and around Guam and CNMI, there will be some overlap between the two proposed EIS/OEISs. Therefore, preparation of these documents will be closely coordinated to ensure consistency.

Environmental issues that will be addressed in the EIS/OEIS include but are not limited to: Airspace; biological resources (including marine mammals and threatened and endangered species); cultural resources; health and safety; and noise. The analysis will include an evaluation of direct and indirect impacts, and will account for cumulative impacts.

The DoD REP is initiating the scoping process to identify community concerns and issues that must be addressed in the EIS/OEIS. Federal agencies, Government of Guam and CNMI agencies, the public, and other interested stakeholders are encouraged to provide oral and written comments to the Navy to identify specific issues or topics of concern for consideration in the EIS/OEIS. The DoD REP will hold three public scoping meetings. Each meeting will consist of an informal information session, staffed by Navy representatives. Members of the public can contribute oral or written comments at the scoping meetings or subsequent to the meetings by mail, fax, or e-mail. All comments, oral and written, will receive the same consideration during EIS/OEIS preparation. Written comments on the scope of the EIS/OEIS must be postmarked by July 16, 2007, and should be mailed to: MIRC TAP EIS, 258 Makalapa Drive, Suite 100, Pearl Harbor, HI 96860-3134, Attention: EV2. Comments can be faxed to 808-474-5419 or e-mailed to marianas.tap.eis@navy.mil.

Dated: May 24, 2007.
L.R. Almand,
Office of the Judge Advocate General, U.S. Navy, Federal Register Liaison Officer.

[FR Doc. E7-10629 Filed 5-31-07; 8:45 am]

BILLING CODE 3810-FF-P